DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place, NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on August 1, 2021, through August 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading “For Further Information Contact”), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. Hussam Ismael, Orlando, Florida, Court of Federal Claims No: 21-1642V

2. Nicholas D. Goettl, Cincinnati, Ohio, Court of Federal Claims No: 21-1644V

3. Robert Anderson, Vestavia Hills, Alabama, Court of Federal Claims No: 21-1645V

4. Savanna Starkey on behalf of The Estate of R. S., Deceased, Brandenburg, Kentucky, Court of Federal Claims No: 21-1646V

5. Joseph Delory, West Des Moines, Iowa, Court of Federal Claims No: 21-1648V

6. David Vazquez-Gonzalez, San Juan, Puerto Rico, Court of Federal Claims No: 21-1649V

7. Emyli Ferguson and Jeremy Ferguson on behalf of J. F., Glendale, Arizona, Court of Federal Claims No: 21-1650V

8. Jeffrey Sears and Brittney Sears on behalf of G. S., Roseville, New York, Court of Federal Claims No: 21-1651V

9. Jennifer L. Portock, Virginia Beach, Virginia, Court of Federal Claims No: 21-1653V

10. Weldon Wilson, Scottsdale, Arizona, Court of Federal Claims No: 21-1655V

11. Barbie Willett, Tyler, Texas, Court of Federal Claims No: 21-1656V

12. Deborah Beckwith, Louisville, Kentucky, Court of Federal Claims No: 21-1660V

13. Anthony Flores, Lovington, New Mexico, Court of Federal Claims No: 21-1661V

14. Louis Post, Poughkeepsie, New York, Court of Federal Claims No: 21-1662V

15. Chris Van Hulse, Jr., Phoenix, Arizona, Court of Federal Claims No: 21-1663V

16. Michelle Azzopardi, Dearborn, Michigan, Court of Federal Claims No: 21-1668V

17. Deborah Loring, Keene, New Hampshire, Court of Federal Claims No: 21-1670V

18. John Mohnal, Philadelphia, Pennsylvania, Court of Federal Claims No: 21-1671V

19. Steven Brooks, Oshkosh, Wisconsin, Court of Federal Claims No: 21-1672V

20. Sheila Cullen, Washington, District of Columbia, Court of Federal Claims No: 21-1673V

21. Melanie Worsley, Topeka, Kansas, Court of Federal Claims No: 21-1674V

22. Elizabeth Sears, Lawrenceville, New Jersey, Court of Federal Claims No: 21-1677V

23. Amy Gray, Boise, Idaho, Court of Federal Claims No: 21-1678V

24. Darlene E. Milne, Bellevue, Washington, Court of Federal Claims No: 21-1679V

25. Krista Elvin O'Brien and Robert O'Brien on behalf of M. O., Phoenix, Arizona, Court of Federal Claims No: 21-1680V

26. Alyssa Huber, Columbia, Tennessee, Court of Federal Claims No: 21-1681V

27. Ileana Matta on behalf of I. R., Boston, Massachusetts, Court of Federal Claims No: 21-1682V

28. Cori Rivas, Peoria, Illinois, Court of Federal Claims No: 21-1683V

29. Chelsea Pomponio, Lancaster, Pennsylvania, Court of Federal Claims No: 21-1687V

30. Keith Tillman, Salt Lake City, Utah, Court of Federal Claims No: 21-1688V

31. Kyle Pappas, Indianapolis, Indiana, Court of Federal Claims No: 21-1690V

32. Gregory Petraco, Port Jefferson Station, New York, Court of Federal Claims No: 21-1691V

33. Karrolee Tomchak, Santa Monica, California, Court of Federal Claims No: 21-1696V

34. Robert M. Claypool, Lancaster, Ohio, Court of Federal Claims No: 21-1697V

35. E. R. Hightower-Newell on behalf of R. B. Newell, North Las Vegas, Nevada, Court of Federal Claims No: 21-1698V

36. Ryan Sughrue, West Windsor, New Jersey, Court of Federal Claims No: 21-1699V

37. Arturo Vasquez, II, Phoenix, Arizona, Court of Federal Claims No: 21-1700V

38. Michelle Johnson, Springdale, Ohio, Court of Federal Claims No: 21-1707V

39. Rhonda Bryan, Tomball, Texas, Court of Federal Claims No: 21-1708V

40. Pamela Lewis-Nunez, Redondo Beach, California, Court of Federal Claims No: 21-1709V

41. Nancy Olivo, Glendale, New York, Court of Federal Claims No: 21-1710V

42. Christopher Hudson, Rockledge, Florida, Court of Federal Claims No: 21-1711V

43. Melissa B. Shine, Morehead City, North Carolina, Court of Federal Claims No: 21-1717V

44. Richard J. Tumas, Charlotte, North Carolina, Court of Federal Claims No: 21-1718V

45. Yvette Moyler, Columbus, Ohio, Court of Federal Claims No: 21-1720V

46. Michael Ritchey and Monica Ritchey on behalf of G. R., Little Rock, Arkansas, Court of Federal Claims No: 21-1724V

47. Nadine Robbins, Hyde Park, New York, Court of Federal Claims No: 21-1726V

48. Rivka Iliovits and Mordechie Iliovits on behalf of L. I., Staten Island, New York, Court of Federal Claims No: 21-1727V

49. Stephanie Felix and Ashton Felix on behalf of E. A. F., Bonita, California, Court of Federal Claims No: 21-1728V

50. Jill Shanti Zinzi, Phoenix, Arizona, Court of Federal Claims No: 21-1729V

51. Rebekah Schaffer, Cheyenne, Wyoming, Court of Federal Claims No: 21-1731V

52. Lori Wilson on behalf of A. W., Phoenix, Arizona, Court of Federal Claims No: 21-1732V

53. Katherine Miller, Huntingtown, Maryland, Court of Federal Claims No: 21-1733V

54. Paige Graves on behalf of D. G., Bartonville, Texas, Court of Federal Claims No: 21-1734V

55. Paloma Flood, Oviedo, Florida, Court of Federal Claims No: 21-1738V

56. David D. Bronson, Rancho Santa Margarita, California, Court of Federal Claims No: 21-1741V

57. Robert Zampitella, Philadelphia, Pennsylvania, Court of Federal Claims No: 21-1743V

58. Aina Rizvi, Phoenix, Arizona, Court of Federal Claims No: 21-1744V

59. Claire Panella, Stuart, Florida, Court of Federal Claims No: 21-1748V

60. Deborah Hammond, East Norriton, Pennsylvania, Court of Federal Claims No: 21-1749V

61. Monique Coombes, Boise, Idaho, Court of Federal Claims No: 21-1750V

62. Dr. Michelle Perez, Stratford, Connecticut, Court of Federal Claims No: 21-1753V

63. Matthew Rivera, Pembroke Pines, Florida, Court of Federal Claims No: 21-1754V

64. Wendy Miller, Torrington, Connecticut, Court of Federal Claims No: 21-1756V

65. Nancy Sorge, Monroe, Connecticut, Court of Federal Claims No: 21-1759V

66. Monica Godoy, Seattle, Washington, Court of Federal Claims No: 21-1760V

67. Christy Bright, Houston, Texas, Court of Federal Claims No: 21-1761V

68. Barton Bond, Fayetteville, Georgia, Court of Federal Claims No: 21-1764V

69. Mary Jo Drcar, Mentor, Ohio, Court of Federal Claims No: 21-1766V

70. Justin Boggs, Wellesley Hills, Massachusetts, Court of Federal Claims No: 21-1767V

71. Robert Schenck, Spring Hill, Florida, Court of Federal Claims No: 21-1768V

72. Amarah Elzabad, Boston, Massachusetts, Court of Federal Claims No: 21-1771V

73. Silvia Bavli, Phoenix, Arizona, Court of Federal Claims No: 21-1772V

74. Felicia R. Williams, St. Louis, Missouri, Court of Federal Claims No: 21-1774V

75. Fazal Siddiqui, Chicago, Illinois, Court of Federal Claims No: 21-1776V

76. Tommy E. Martin, Mt. Holly, North Carolina, Court of Federal Claims No: 21-1777V

77. Lynn Peterson, Waukesha, Wisconsin, Court of Federal Claims No: 21-1778V

78. Bailey Thomas on behalf of A. B., Englewood, New Jersey, Court of Federal Claims No: 21-1780V

79. Anita Richardson, Pensacola, Florida, Court of Federal Claims No: 21-1781V

80. Leah Gonzalez-Guzman, White Plains, New York, Court of Federal Claims No: 21-1782V

[FR Doc. 2021-20233 Filed 9-17-21; 8:45 am]

BILLING CODE 4165-15-P